DEPARTMENT OF TRANSPORTATION

Federal Aviation Administration

14 CFR Part 39

[Docket No. FAA-2014-0190; Directorate Identifier 2012-NM-188-AD; Amendment 39-17959; AD 2014-17-06]

RIN 2120-AA64

Airworthiness Directives; Airbus Airplanes

AGENCY: Federal Aviation Administration (FAA), Department of Transportation (DOT).

ACTION: Final rule.

SUMMARY: We are superseding Airworthiness Directive (AD) 2011-17-08 for all Airbus Model A330-200 series airplanes, Model A330-200 Freighter series airplanes, and Model A330-300 series airplanes. AD 2011-17-08 required revising the maintenance program by incorporating certain Airworthiness Limitation Items (ALIs). This new AD requires a revision to the maintenance or inspection program, as applicable, to incorporate new or revised structural inspection requirements. This AD was prompted by a revision of certain airworthiness limitations items (ALI) documents, which specifies more restrictive instructions and/or airworthiness limitations. We are issuing this AD to detect and correct fatigue cracking, damage, and corrosion in certain structure, which could result in reduced structural integrity of the airplane.

DATES: This AD becomes effective October 8, 2014.

The Director of the Federal Register approved the incorporation by reference of certain publications listed in this AD as of October 8, 2014.

The Director of the Federal Register approved the incorporation by reference of a certain other publication listed in this AD as of September 30, 2011 (76 FR 53303, August 26, 2011).

ADDRESSES: You may examine the AD docket on the Internet at http://www.regulations.gov/#!docketDetail;D=FAA-2014-0190; or in person at the Docket Management Facility, U.S. Department of Transportation, Docket Operations, M-30, West Building Ground Floor, Room W12-140, 1200 New Jersey Avenue SE., Washington, DC.

For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2011-17-08, Amendment 39-16772 (76 FR 53303, August 26, 2011), which superseded AD 2006-09-07, Amendment 39-14577 (71 FR 25919, May 3, 2006). AD 2011-17-08 applied to all Airbus Model A330-200 series airplanes, Model A330-200 Freighter series airplanes, and Model A330-300 series airplanes. The NPRM published in the Federal Register on April 8, 2014 (79 FR 19294). The NPRM was prompted by a revision of certain airworthiness limitations items (ALI) documents, which specifies more restrictive instructions and/or airworthiness limitations. The NPRM proposed to require revising the maintenance program by incorporating certain ALIs. We are issuing this AD to detect and correct fatigue cracking, damage, and corrosion in certain structure, which could result in reduced structural integrity of the airplane.

The European Aviation Safety Agency (EASA), which is the Technical Agent for the Member States of the European Community, has issued EASA Airworthiness Directive 2012-0211, dated October 12, 2012 (referred to after this as the Mandatory Continuing Airworthiness Information, or “the MCAI”), to correct an unsafe condition for all Airbus Model A330-200 series airplanes, Model A330-200 Freighter series airplanes, and Model A330-300 series airplanes. The MCAI states:

The airworthiness limitations are currently defined and published in the Airbus A330 Airworthiness Limitations Section (ALS).

The airworthiness limitations applicable to the Damage Tolerant Airworthiness Limitation Items (DT ALI) are currently specified in Airbus A330 ALI, Airbus Document reference AI/SE-M4/95A.0089/97, which is approved by EASA and referenced in Airbus ALS Part 2.

Issue 19 of the Airbus A330 ALI Document introduces more restrictive maintenance requirements and/or airworthiness limitations. Failure to comply with the relevant instructions could result in an unsafe condition.

For the reasons described above, this [EASA] AD retains the requirements of EASA AD 2010-0174 [http://ad.easa.europa.eu/blob/easa_ad_2010_0174_superseded.pdf/AD_2010-0174_1] [which corresponds to FAA AD 2011-17-08, Amendment 39-16772 (76 FR 53303, August 26, 2011)], which is superseded, and requires the implementation of the new or more restrictive maintenance instructions and/or airworthiness limitations as specified in Airbus A330 ALI Document reference AI/SE-M4/95A.0089/97 issue 19.

The unsafe condition is fatigue cracking, damage, and corrosion in certain structure, which could result in reduced structural integrity of the airplane. You may examine the MCAI in the AD docket on the Internet at http://www.regulations.gov/#!documentDetail;D=FAA-2014-0190-0002.

Comments

We gave the public the opportunity to participate in developing this AD. We received no comments on the NPRM (79 FR 19294, April 8, 2014) or on the determination of the cost to the public.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA design organization approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the available data and determined that air safety and the public interest require adopting this AD with the changes described previously and minor editorial changes. We have determined that these minor changes:

• Are consistent with the intent that was proposed in the NPRM (79 FR 19294, April 8, 2014) for correcting the unsafe condition; and

• Do not add any additional burden upon the public than was already proposed in the NPRM (79 FR 19294, April 8, 2014).

We also determined that these changes will not increase the economic burden on any operator or increase the scope of this AD.

Costs of Compliance

We estimate that this AD affects 30 airplanes of U.S. registry.

The actions that are required by AD 2011-17-08, Amendment 39-16772 (76 FR 53303, August 26, 2011), and retained in this AD take about 1 work-hour per product, at an average labor rate of $85 per work-hour. Based on these figures, the estimated cost of the actions that were required by AD 2011-17-08 is $85 per product.

We also estimate that it would take about 1 work-hour per product to comply with the basic requirements of this AD. The average labor rate is $85 per work-hour. Based on these figures, we estimate the cost of this AD on U.S. operators to be $2,550, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0190; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-17-08, Amendment 39-16772 (76 FR 53303, August 26, 2011), and adding the following new AD:

2014-17-06 Airbus: Amendment 39-17959. Docket No. FAA-2014-0190; Directorate Identifier 2012-NM-188-AD.

(a) Effective Date

This AD becomes effective October 8, 2014.

(b) Affected ADs

This AD replaces AD 2011-17-08, Amendment 39-16772 (76 FR 53303, August 26, 2011).

(c) Applicability

This AD applies to Model A330-201, -202, -203, -223, -223F, -243, -243F, -301, -302, -303, -321, -322, -323, -341, -342, and -343 airplanes; certificated in any category; all manufacturer serial numbers.

(d) Subject

Air Transport Association (ATA) of America Code 05, Periodic inspections.

(e) Reason

This AD was prompted by a revision of certain airworthiness limitations items (ALI) documents, which specifies more restrictive instructions and/or airworthiness limitations. We are issuing this AD to detect and correct fatigue cracking, damage, and corrosion in certain structure, which could result in reduced structural integrity of the airplane.

(f) Compliance

Comply with this AD within the compliance times specified, unless already done.

(g) Retained Maintenance Program Revision

This paragraph restates the requirements of paragraph (h) of AD 2011-17-08, Amendment 39-16772 (76 FR 53303, August 26, 2011), with no changes. Within 3 months after September 30, 2011 (the effective date of this AD 2011-17-08): Revise the maintenance program by incorporating Airbus Document AI/SE-M4/95A.0089/97, “A330 Airworthiness Limitation Items,” Issue 17, dated May 28, 2010. At the times specified in Airbus Document AI/SE-M4/95A.0089/97, “A330 Airworthiness Limitation Items,” Issue 17, dated May 28, 2010, comply with all applicable maintenance requirements and associated airworthiness limitations included in Airbus Document AI/SE-M4/95A.0089/97, “A330 Airworthiness Limitation Items,” Issue 17, dated May 28, 2010.

(h) Retained Requirement: No Alternative Intervals or Limits

This paragraph restates the requirements of paragraph (i) of AD 2011-17-08, Amendment 39-16772 (76 FR 53303, August 26, 2011), with no changes. Except as provided by paragraphs (i) and (k)(1) of this AD, after accomplishing the actions specified in paragraph (g) of this AD, no alternatives to the maintenance tasks, intervals, or limitations specified in paragraph (g) of this AD may be used.

(i) New Maintenance or Inspection Program Revision

(1) Within 3 months after the effective date of this AD: Revise the maintenance or inspection program, as applicable, by incorporating Airbus Document AI/SE-M4/95A.0089/97, “A330 Airworthiness Limitation Items,” Issue 19, dated March 23, 2012; “Variation to Issue 19 of ALI Document (referenced in ALS Part 2) Damage Tolerant Airworthiness Limitation Items (DT ALI),” variation reference 0GVLG120018/C0S, dated October 24, 2012; and “Variation to Issue 19 of ALI Document (referenced in ALS Part 2) Damage Tolerant Airworthiness Limitation Items (DT ALI),” variation reference 0GVLG130002/C01, dated March 26, 2013.

(2) Comply with all applicable instructions and airworthiness limitations included in Airbus Document AI/SE M4/95A.0089/97, “A330 Airworthiness Limitation Items,” Issue 19, dated March 23, 2012; “Variation to Issue 19 of ALI Document (referenced in ALS Part 2) Damage Tolerant Airworthiness Limitation Items (DT ALI),” variation reference 0GVLG120018/C0S, dated October 24, 2012; and “Variation to Issue 19 of ALI Document (referenced in ALS Part 2) Damage Tolerant Airworthiness Limitation Items (DT ALI),” variation reference 0GVLG130002/C01, dated March 26, 2013. The initial compliance times for the actions specified Airbus Document AI/SE-M4/95A.0089/97, “A330 Airworthiness Limitation Items,” Issue 19, dated March 23, 2012; “Variation to Issue 19 of ALI Document (referenced in ALS Part 2) Damage Tolerant Airworthiness Limitation Items (DT ALI),” variation reference 0GVLG120018/C0S, dated October 24, 2012; and “Variation to Issue 19 of ALI Document (referenced in ALS Part 2) Damage Tolerant Airworthiness Limitation Items (DT ALI),” 0GVLG130002/C01, dated March 26, 2013; are at the times specified in Airbus Document AI/SE-M4/95A.0089/97, “A330 Airworthiness Limitation Items,” Issue 19, dated March 23, 2012; “Variation to Issue 19 of ALI Document (referenced in ALS Part 2) Damage Tolerant Airworthiness Limitation Items (DT ALI),” variation ref. 0GVLG120018/C0S, dated October 24, 2012; and “Variation to Issue 19 of ALI Document (referenced in ALS Part 2) Damage Tolerant Airworthiness Limitation Items (DT ALI),” variation ref. 0GVLG130002/C01, dated March 26, 2013; or within 3 months after the effective date of this AD, whichever occurs later. Accomplishing the revision in this paragraph ends the requirements in paragraph (g) of this AD.

(j) New Optional Compliance

Compliance with tasks 533021-02-01, 533021-02-02, and 533021-02-03, specified in “Variation to Issue 19 of ALI Document (referenced in ALS Part 2) Damage Tolerant Airworthiness Limitation Items (DT ALI),” variation ref. 0GVLG120022/C0S, dated December 21, 2012, may be used as a method of compliance to tasks 533021-01-01, 533021-01-02, 533021-01-03 specified in Section 2.2.1 and 2.2.2 of Section 2, “Airworthiness Limitations,” of Airbus Document AI/SE M4/95A.0089/97, “A330 Airworthiness Limitation Items,” Issue 19, dated March 23, 2012.

(k) New Requirement: No Alternative Intervals or Limits

Except as provided by paragraph (j) of this AD, after the maintenance or inspection program, as applicable, has been revised as required by paragraph (i) of this AD, no alternative actions (e.g., inspections) or intervals may be used unless the actions or intervals are approved as an alternative method of compliance (AMOC) under the provisions of paragraph (l)(1) of this AD.

(l) Other FAA AD Provisions

The following provisions also apply to this AD:

(1) Alternative Methods of Compliance (AMOCs): The Manager, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously for AD 2011-17-08, Amendment 39-16772 (76 FR 53303, August 26, 2011), are approved as AMOCs for the corresponding provisions of paragraph (g) of this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

Refer to Mandatory Continuing Airworthiness Information (MCAI) European Aviation Safety Agency Airworthiness Directive 2012-0211, dated October 12, 2012, for related information. You may examine the MCAI in the AD docket on the Internet at http://www.regulations.gov/#!documentDetail;D=FAA-2014-0190-0002.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR October 8, 2014.

(i) Airbus Document AI/SE-M4/95A.0089/97, “A330 Airworthiness Limitation Items,” Issue 19, dated March 23, 2012.

(ii) “Variation to Issue 19 of ALI Document (referenced in ALS Part 2) Damage Tolerant Airworthiness Limitation Items (DT ALI),” variation ref. 0GVLG120018/C0S, dated October 24, 2012.

(iii) “Variation to Issue 19 of ALI Document (referenced in ALS Part 2) Damage Tolerant Airworthiness Limitation Items (DT ALI),” variation ref. 0GVLG120022/C0S, dated December 21, 2012.

(iv) “Variation to Issue 19 of ALI Document (referenced in ALS Part 2) Damage Tolerant Airworthiness Limitation Items (DT ALI),” variation ref. 0GVLG130002/C01, dated March 26, 2013.

(4) The following service information was approved for IBR on September 30, 2011 (76 FR 53303, August 26, 2011).

(i) Airbus Document AI/SE-M4/95A.0089/97, “A330 Airworthiness Limitation Items,” Issue 17, dated May 28, 2010.

(ii) Reserved.

(5) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on August 15, 2014.
Michael Kaszycki,
Acting Manager, Transport Airplane Directorate, Aircraft Certification Service.

[FR Doc. 2014-20258 Filed 9-2-14; 8:45 am]

BILLING CODE 4910-13-P